DEPARTMENT OF COMMERCE

Foreign-Trade Zones Board

[Docket 28-2006]

Foreign-Trade Zone 123—Denver, Colorado, Application for Expansion

An application has been submitted to the Foreign-Trade Zones (FTZ) Board (the Board) by the City and County of Denver, Colorado, grantee of FTZ 123, requesting authority to expand its zone to include a site in Windsor, Colorado, adjacent to the Denver Customs port of entry. The application was submitted pursuant to the provisions of the Foreign-Trade Zones Act, as amended (19 U.S.C. 81a-81u), and the regulations of the Board (15 CFR part 400). It was formally filed on July 5, 2006.

FTZ 123 was approved on August 16, 1985 (Board Order 311, 50 FR 34729, 8/27/85). The general-purpose zone currently consists of the following sites: Site 1 (6 acres, 200,000 sq. ft.)—located at 11075 East 40th Avenue, Denver; and, Site 2 (7 acres, 116,000 sq. ft.)—located at the South Air Cargo development area along East 75th Avenue within the new Denver International Airport, Denver.

The applicant is now requesting authority to expand the zone to include a site in Weld County: Proposed Site 3 (766 acres)—within the Great Western Industrial Park bordered by Eastman Park Drive to the north and County Road 23 to the east in Windsor. The site is owned by Broe Land Acquisitions II, LLC and Front Range Energy, LLC. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is September 11, 2006. Rebuttal comments in response to material submitted during the foregoing period may be submitted during the subsequent 15-day period to September 25, 2006.

A copy of the application and accompanying exhibits will be available for public inspection at each of the following locations: U.S. Department of Commerce, Export Assistance Center, 1625 Broadway, Suite 680, Denver, CO 80202; and, Office of the Executive Secretary, Foreign-Trade Zones Board, Room 1115, U.S. Department of Commerce, 1401 Constitution Avenue, NW., Washington, DC 20230.

Dated: July 7, 2006.
Andrew McGilvray,
Acting Executive Secretary.

[FR Doc. E6-10957 Filed 7-11-06; 8:45 am]

BILLING CODE 3510-DS-S